COMMITTEE FOR PURCHASE FROM PEOPLE WHO ARE BLIND OR SEVERELY DISABLED

Procurement List Additions

AGENCY: Committee for Purchase From People Who Are Blind or Severely Disabled.

ACTION: Additions to the procurement list.

SUMMARY: This action adds products and services to the Procurement List that will be furnished by nonprofit agencies employing persons who are blind or have other severe disabilities.

DATES: Effective Date: 9/20/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 6/4/2010 (75 FR 31768-31769); 6/11/2010 (75 FR 33270-33271); 6/18/2010 (75 FR 34701-34702); and 6/25/2010 (75 FR 36363-36371), the Committee for Purchase From People Who Are Blind or Severely Disabled published notices of proposed additions to the Procurement List.

Comments were received from a commercial contractor indicating that its firm produces the Army Combat Uniform (ACU). The company indicates that their work on the ACU makes up 50% of the sales of their company and, therefore, the addition of the product to the Procurement List would constitute severe adverse impact on their company.

The Multi-Cam product is a new requirement of the U.S. Army, as aggregated by the Department of the Army Research, Development, and Engineering Command, Natick, MA and has not been procured previously. It does not replace other ACU items produced by other entities, including the company that submitted the comments.

The contracting activity has determined that 50% of their requirement for this new product can be provided by qualified nonprofit agencies associated with the AbilityOne Program. The Committee for Purchase From People Who Are Blind or Severely Disabled (Committee) has reviewed this project and determined that it is suitable for procurement by the government and that it will result in employment of people who are blind or who have other severe disabilities. Accordingly, the Committee has determined that the addition of this product to the Procurement List is proper.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Double Pocket Portfolios

NSN: 7510-01-316-2302.

NPA: L.C. Industries for the Blind, Inc., Durham, NC.

Contracting Activity: Federal Acquisition Service, GSA/FSS OFC SUP CTR—PAPER Products, New York, NY.

Coverage: A-List for the Total Government Requirement as aggregated by the General Services Administration.

Colored Straight Cut File Folders, 11 Point

NSN: 7530-01-364-9484—RED.

NSN: 7530-01-364-9502—BLUE.

NSN: 7530-01-364-9505—GREEN.

NSN: 7530-01-364-9506—ORANGE.

NSN: 7530-01-364-9486—YELLOW.

NSN: 7530-01-203-1493—LAVENDER.

NSN: 7530-01-364-9482—PINK.

NSN: 7530-01-364-9483—PURPLE.

NSN: 7530-01-364-9485—WHITE.

NSN: 7530-01-364-9503—BROWN.

NSN: 7530-01-364-9504—GRAY.

NPA: L.C. Industries for the Blind, Inc., Durham, NC.

Contracting Activity: Federal Acquisition Service, GSA/FSS OFC SUP CTR—Paper Products, New York, NY.

Coverage: A-List for the Total Government Requirement as aggregated by the General Services Administration.

Scissors and Shears

NSN: 5110-01-241-4371—Shears, Bent Trimmers.

NSN: 5110-01-241-4373—Shears, Straight Trimmers.

NSN: 5110-01-241-4375—Scissors, Ladies Sewing; Stainless Steel.

Coverage: A-List for the Total Government Requirement as aggregated by the General Services Administration.

NSN: 5110-01-241-4376—Scissors, Pocket.

Coverage: B-List for the Broad Government Requirement as aggregated by the General Services Administration.

NPA: Winston-Salem Industries for the Blind, Winston-Salem, NC.

Contracting Activity: Federal Acquisition Service/GSA, Kansas City, MO.

Multi-Cam Coat

NSN: 8415-01-579-9622.

NSN: 8415-01-580-0075.

NSN: 8415-01-579-9843.

NSN: 8415-01-579-9852.

NSN: 8415-01-579-9814.

NSN: 8415-01-579-9833.

NSN: 8415-01-579-9776.

NSN: 8415-01-579-9784.

NSN: 8415-01-579-9794.

NSN: 8415-01-579-9753.

NSN: 8415-01-579-9762.

NSN: 8415-01-579-9747.

NSN: 8415-01-579-9752.

NSN: 8415-01-579-9864.

NSN: 8415-01-580-0077.

NSN: 8415-01-579-9847.

NSN: 8415-01-579-9806.

NSN: 8415-01-579-9827.

NSN: 8415-01-579-9836.

NSN: 8415-01-579-9781.

NSN: 8415-01-579-9823.

NSN: 8415-01-579-9795.

NSN: 8415-01-579-9756.

NSN: 8415-01-579-9616.

NSN: 8415-01-579-9749.

NSN: 8415-01-580-0068.

NSN: 8415-01-579-9840.

NSN: 8415-01-579-9850.

NSN: 8415-01-579-9811.

NSN: 8415-01-579-9830.

NSN: 8415-01-579-9773.

NSN: 8415-01-579-9782.

NSN: 8415-01-579-9789.

NSN: 8415-01-579-9801.

NSN: 8415-01-579-9759.

NSN: 8415-01-579-9621.

NSN: 8415-01-579-9745.

NPAs: Southside Training Employment Placement Services, Inc., Farmville, VA ReadyOne Industries, Inc., El Paso, TX.

Contracting Activity: Dept of the Army, XR W2DF RDECOM ACQ CTR Natick, MA.

Coverage: C-List for 50% of the requirement of the U.S Army, as aggregated by the Department of the Army Research, Development, and Engineering Command, Natick, MA.

Undershirt, Midweight Cold Weather (Gen III)

NSN: 8415-01-546-0124—Size X Small Short.

NSN: 8415-01-546-0128—Size X Small Regular.

NSN: 8415-01-546-0160—Size Small Short.

NSN: 8415-01-538-8598—Size Small Regular.

NSN: 8415-01-546-0166—Size Small Long.

NSN: 8415-01-538-8614—Size Medium Regular.

NSN: 8415-01-546-0305—Size Medium Long.

NSN: 8415-01-538-8621—Size Large Regular.

NSN: 8415-01-538-8701—Size Large Long.

NSN: 8415-01-538-8705—Size X Large Regular.

NSN: 8415-01-538-8711—Size X Large Long.

NSN: 8415-01-546-0362—Size X Large X Long.

NSN: 8415-01-546-0369—Size XX Large Regular.

NSN: 8415-01-546-0370—Size XX Large Long.

NSN: 8415-01-546-0374—Size XX Large X Long.

NPAs: Knox County Association for Retarded Citizens, Inc., Vincennes, IN Peckham Vocational Industries, Inc., Lansing, MI.

Contracting Activity: Defense Logistics Agency, Defense Supply Center Philadelphia.

Coverage: C-List for an additional 25% of the requirement (total now equals 75%) of the Department of Defense, as aggregated by the Defense Logistics Agency, Defense Supply Center Philadelphia.

Services

Service Type/Location: Mess Attendant Service, 185th Air Refueling Wing Dining Hall, 2920 Headquarters Avenue, Sioux City, IA.

NPA: Goodwill Community Rehabilitation Services, Inc., Sioux City, IA.

Contracting Activity: Dept of the Army, XRAW7M8 USPFO Activity IA ARNG, Johnston, IA.

Service Type/Location: Medical Transcription Service, VA VISN 20 Portland OR VA Medical Center, (Offsite location: 3602 West Dallas, Houston, TX).

NPA: Lighthouse for the Blind of Houston, Houston, TX.

Contracting Activity: Department of Veterans Affairs, VA Medical Center, Boise, ID.

Service Type/Location: Custodial Service, DCMA Pease Air National Guard Base, 302 Newmarket St., Building 247, Pease ANGB, NH.

NPA: CW Resources, Inc., New Britain, CT.

Contracting Activity: Department of Defense, Defense Contract Management Agency (DCMA), Boston, MA.

Service Type/Location: Custodial Service, Bureau of Land Management, 1046 Gunston Road, Lorton, VA.

NPA: MVLE, Inc., Springfield, VA.

Contracting Activity: Dept of the Interior, Bureau of Land Management, ES-Eastern States Office, Springfield, VA.

Service Type/Location: Administrative Support Service, Welcome Center, Defense Supply Center Richmond, 8000 Jefferson Davis Highway, Richmond, VA.

NPA: Richmond Area Association for Retarded Citizens, Richmond, VA.

Contracting Activity: Defense Logistics Agency, Defense Supply Center Richmond, Richmond, VA.

Service Type/Location: Receiving/Delivery, Supply Store, Warehousing, Mailroom, Environmental Protection Agency Complex System, 109 T.W. Alexander Drive, Research Triangle Park, NC.

NPA: Employment Source, Inc., Fayetteville, NC.

Contracting Activity: Environmental Protection Agency, Rtp Procurement Operations Division (RTPPOD), Research Triangle Park, NC.

Service Type/Location: Custodial Service, Air Traffic Control Tower, Duluth International Airport, 4525 Airport Approach Road, Duluth, MN.

NPA: Goodwill Industries Vocational Enterprises, Inc., Duluth, MN.

Contracting Activity: Dept of Transportation, Federal Aviation Admin, DES PLAINES, IL.

Service Type/Location: Custodial Service, Naval Air Station (NAS)/Joint Reserve Base (JRB), New Orleans, LA.

NPA: Goodworks, Inc., Metairie, LA.

Contracting Activity: Dept of the Navy, Naval Facilities Engineering CMD, NAVFAC Southeast, Jacksonville, FL.

Service Type/Location: Grounds Maintenance, 130th Airlift Squadron, 1679 Coonskin Dr Unit #36, Charleston, WV.

NPA: Goodwill Industries of Kanawha Valley, Inc., Charleston, WV.

Contracting Activity: Dept of the Army, XRAW8BS WV USPF0 SPT SEC, Buckhannon, WV.

Service Type/Location: Janitorial Service, Rescue 21 Project Residence Office (PRO), 100 Savikko Road, Douglas, AK.

NPA: REACH, Inc., Juneau, AK.

Contracting Activity: U.S. Coast Guard, CG-9, Department of Homeland Security, Washington, DC.

Barry S. Lineback,
Director, Business Operations.

[FR Doc. 2010-20704 Filed 8-19-10; 8:45 am]

BILLING CODE 6353-01-P